DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Quarterly Progress Reporting and Annual Indirect Services Outcome Data Collection for the Minority Substance Abuse/HIV Prevention Program (MAI)—NEW

The Substance Abuse and Mental Health Services Administration (SAMHSA), Center for Substance Abuse Prevention (CSAP) is requesting approval from the Office of Management and Budget (OMB) for the collection of quarterly progress information and annual community-level outcome data from CSAP's Minority AIDS Initiative (MAI) programs.

This data collection effort supports two of SAMHSA's 6 Strategic Initiatives: Prevention of Substance Abuse and Mental Illness and Health Care and Health Systems Integration. The grantees funded by the MAI and included in this clearance request are:

• Minority Serving Institutions (MSI) in Partnerships with Community-Based Organizations (CBO): 84 grantees funded up to three years;

• Capacity Building Initiative (CBI): 74 grantees funded up to five years.

MSI CBO grantees are Historically Black Colleges/Universities, Hispanic Serving Institutions, American Pacific Islander Serving Institutions, or Tribal Colleges/Universities in partnership with community based organizations in their surrounding communities. MSI CBO grantees are required to provide integrated substance abuse (SA), Hepatitis C (HCV), and HIV prevention services to young adults. The CBI grantees are community-level domestic, public and private nonprofit entities, federally recognized American Indian/Alaska Native Tribes and tribal organizations, and urban Indian organizations. CBI grantees will use grant funds for building a solid infrastructure for integrated SA, HIV, and HCV prevention service provision and implementing evidence-based prevention interventions using SAMHSA's Strategic Prevention Framework (SPF) process. The target population for the CBI grantees will be at-risk minority adolescents and young adults. All MAI grantees are expected to provide leadership and coordination on the planning and implementation of the SPF and to target minority populations, as well as other high risk groups residing in communities of color with high prevalence of SA and HIV/AIDS.

The MAI grantees are expected to provide an effective prevention process, direction, and a common set of goals, expectations, and accountabilities to be adapted and integrated at the community level. Grantees have substantial flexibility in choosing their individual evidence-based programs, but must base this selection on and build it into the five steps of the SPF. These SPF steps consist of assessing local needs, building service capacity specific to SA and HIV prevention services, developing a strategic prevention plan, implementing evidence-based interventions, and evaluating their outcomes. Grantees are also required to provide HIV and HCV testing and counseling services and referrals to appropriate treatment options. Grantees must also conduct ongoing monitoring and evaluation of their projects to assess program effectiveness including Federal reporting of the Government Performance and Results Act (GPRA) of 1993, The GPRA Modernization Act of 2010, SAMHSA/CSAP National Outcome Measures (NOMs), and the Department of Health and Human Services Core HIV Indicators.

The primary objectives of this data collection effort are to:

• Ensure the correct implementation of the five steps of the SPF process by maintaining a continuous feedback loop between grantees and their POs;

• Promptly respond to grantees' needs for training and technical assistance;

• Assess the fidelity with which the SPF is implemented;

• Collect aggregate data on HIV testing to fulfill SAMHSA's reporting and accountability obligations as defined by the Government Performance and Results Modernization Act (GPRA Modernization Act) and HHS's HIV Core Measures;

• Assess the success of the MAI in reducing risk factors and increasing protective factors associated with the transmission of the Human Immunodeficiency Virus (HIV), Hepatitis C Virus (HCV) and other sexually-transmitted diseases (STD);

• Measure the effectiveness of evidence-based programs and infrastructure development activities such as: Outreach and training, mobilization of key stakeholders, substance abuse and HIV/AIDS counseling and education, testing, referrals to appropriate medical treatment, and other intervention strategies (e. g., cultural enrichment activities, educational and vocational resources, motivational interviewing & brief interventions, social marketing, and computer-based curricula);

• Investigate intervention types and features that produce the best outcomes for specific population groups;

• Assess the extent to which access to health care was enhanced for population groups and individuals vulnerable to behavioral health disparities residing in communities targeted by funded interventions;

These objectives support the four primary goals of the National HIV/AIDS Strategy which are: (1) Reducing new HIV infections, (2) increasing access to care and improving health outcomes for people living with HIV/AIDS, (3) reducing HIV-related disparities and health inequities, and (4) achieving a coordinated national response to the HIV epidemic.

The Quarterly Progress Reporting (QPR) Tool is a modular instrument structured around the SPF. Each section or module corresponds to a SPF step with an additional section dedicated to cultural competence and efforts to address behavioral health disparities, which is an overarching principle of the framework guiding every step. Grantees provide quarterly reports of their progress through the SPF. Each quarter's report consists of updates to the module(s) corresponding to the SPF steps that the grantee worked on during that quarter. Grantees are required to report on their activities, accomplishments, and barriers associated with cultural competence and reduction of health disparities twice a year, as part of the second- and fourth-quarter progress reports. Data on HIV/HCV testing and hepatitis vaccination are reported only in the aggregate (e. g. numbers tested and percent of tests that were positive). No individual-level information is collected through this instrument.

The Indirect Services Outcomes Data Tool collects annual data on community-level outcome measures. These data typically come from existing sources such as ongoing community surveys and administrative data collected by local agencies and institutions such as law enforcement, school districts, college campuses, hospitals, and health departments. The data are submitted to SAMHSA in the form of community-level averages, percentages, or rates, and are used to assess the grantees' success in changing community norms, policies, practices, and systems through environmental strategies and information dissemination activities. As with the QPR, no individual-level information is collected through this instrument.

The third data collection instrument for which approval is being sought is intended to collect FY 2015 data on the HIV testing activities of the grantees. It will be used once only, immediately after the system goes online, in order to collect data for two of the seven HHS Core Indicators that SAMHSA/CSAP has agreed to report. Although this statement refers to it as a separate instrument for purposes of clarity in burden estimation, it has the same data fields as the HIV Testing Implementation section of the main Quarterly Progress Report tool and differs only in its reporting timeframe

Although the main purpose of this data collection effort is to provide a standard and efficient system for SAMHSA's project officers to maintain a feedback loop with the grantees that they manage and to respond to training and technical assistance needs in a timely fashion, the data will also be incorporated into the national cross-site evaluation. By combining this grantee-level implementation information and community-level outcome data with participant-level pre-post data, SAMHSA will be able to identify interventions and intervention combinations that produce the most favorable outcomes at the individual and community levels, and to investigate the interaction between participant- and grantee-level factors in predicting positive outcomes.

Respondent burden has been limited to the extent possible while allowing SAMHSA project officers to effectively manage, monitor, and provide sufficient guidance to their grantees, and for the cross-site evaluation to reliably assess program outcomes and successful strategies. The following table displays estimates of the annualized burden for data collected through the Quarterly Progress Reporting and Indirect Services outcomes data collection tools.

Estimates of Annualized Hour Burden by Instrument
Type of respondent activity | Number of respondents | Responses per respondent | Total responses | Hours per response | Total burden hours
Quarterly Progress Report | 158 | 4 | 632 | 4 | 2,528
Indirect Services Outcomes | 158 | 1 | 158 | 2 | 316
HIV Testing Retrospective Reporting Tool | 50 | 1/3 | 16. 67 | 0. 25 | 4. 17
Total | 158 |  | 806. 67 |  | 2,848

Written comments and recommendations concerning the proposed information collection should be sent by February 25, 2016 to the SAMHSA Desk Officer at the Office of Information and Regulatory Affairs, Office of Management and Budget (OMB). To ensure timely receipt of comments, and to avoid potential delays in OMB's receipt and processing of mail sent through the U. S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2016-01479 Filed 1-25-16; 8:45 am]

BILLING CODE 4162-20-P